DEPARTMENT OF ENERGY

Federal Energy Regulatory Commission

[Docket No. EL03-26-000, et al.]

New York Independent System Operator, Inc., et al.; Electric Rate and Corporate Regulation Filings

November 22, 2002.

The following filings have been made with the Commission. The filings are listed in ascending order within each docket classification.

1. New York Independent System Operator, Inc.

[Docket No. EL03-26-000] Take notice that on November 8, 2002, New York Independent System Operator, Inc. (NYISO) filed with the Federal Energy Regulatory Commission (Commission) a letter enclosing the arbitration decision in American Arbitration Association (AAA) proceeding number 13 198 00247 02, dated October 28, 2002, involving certain claims brought by Dynegy Power Marketing, Inc. (Dynegy) against the NYISO (Arbitration Decision). The Arbitration Decision involves the amount of certain payments to be made to a market participant in connection with the operation of the NYISO's automated mitigation procedure (AMP), as approved by the Commission. New York System Independent System Operator, Inc., 95 FERC §thnsp;61,471 (2001). The Arbitration Decision is being filed pursuant to Section 11.3 of the NYISO Market Administration and Control Area Services Tariff (Services Tariff), which provides that: “All arbitration decisions that affect matters subject to the jurisdiction of the Commission shall be filed with the Commission.”

The NYISO states that its filing has been served upon Dynegy and the Arbitrator through his designated representative at the AAA.

The NYISO also states that Section 11.3 of the Services Tariff provides that a party may request the Commission to vacate, modify or take such other action as may be appropriate with respect to any arbitration decision. The NYISO states that Section 11.3 of the Services Tariff also provides that parties have one year to seek Commission action.

Comment Date: October 28, 2003.

2. Athens Generating Company, L.P.; Covert Generating Company, LLC; Harquahala Generating Company, LLC; Millennium Power Partners, L.P.

[Docket Nos. ER99-4282-003; ER01-520-003; ER02-748-003; and ER98-830-007]

Take notice that on November 18, 2002, Athens Generating Company, L.P., Covert Generating Company, LLC, Harquahala Generating Company, LLC, and Millennium Power Partners, L.P. (collectively the Companies), each of which is an indirect, wholly-owned subsidiary of PG&E National Energy Group, Inc. (PG&E NEG) tendered for filing, information that reflects a departure from the characteristics relied upon by the Commission in approving market-based pricing. Specifically, the Companies have submitted information concerning a potential change in their direct or indirect upstream ownership from PG&E NEG to certain lenders (or direct or indirect subsidiaries of those lenders) to the Companies (or the Companies' direct or indirect upstream owners).

Comment Date: December 4, 2002.

3. Sithe Edgar LLC; Sithe Framingham LLC; Sithe Mystic LLC; Sithe New Boston LLC; Sithe West Medway LLC; Sithe Wyman LLC; AG-Energy, L.P.; Power City Partners, L.P.; Seneca Power Partners, L.P.; Sterling Power Partners, L.P.

[Docket No. ER01-513-003]

Take notice that on November 19, 2002, Sithe Edgar LLC, Sithe Framingham LLC, Sithe Mystic LLC, Sithe New Boston LLC, Sithe West Medway LLC, Sithe Wyman LLC, AG-Energy, L.P., Power City Partners, L.P., Seneca Power Partners, L.P., and Sterling PowerPartners, L.P. (the “Sithe Project Companies”) submitted revised tariff sheets in compliance with the Commission's January 24, 2001 order in the above-captioned proceeding directing the Sithe Project Companies to conform the rate schedule designations with the requirements of Order No. 614. These tariff sheets replace those submitted by the Sithe Project Companies in the above-captioned docket on November 30, 2001.

Comment Date: December 10, 2002.

4. California Independent System Operator Corporation

[Docket No. ER02-2489-001]

Take notice that on November 20, 2002, the California Independent System Operator Corporation (ISO) tendered for filing a compliance filing made in compliance with the Commission's October 21, 2002 Order Accepting Contract Revision, Subject to Modification. The compliance filing revises Appendix A to the Responsible Participating Transmission Owner Agreement (RPTO Agreement) between the ISO and Pacific Gas and Electric Company (PG&E), in accordance with the October 21 Order.

The ISO states that this filing has been served on all entities that are on the official service list for this docket.

Comment Date: December 11, 2002.

5. New England Power Company

[Docket No. ER03-199-000]

Take notice that on November 20, 2002, New England Power Company (NEP) filed with the Commission notice of the cancellation of Rate Schedule FERC No. 421 (Rate Schedule 421). Rate Schedule 421 is an Interconnection Agreement between NEP and Public Service Company of New Hampshire (PSNH). NEP requests that the cancellation be made effective on July 1, 2002. NEP has served the filing upon PSNH and the persons listed on the service list for Docket No. ER93-255-000.

Comment Date: December 11, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Magalie R. Salas, Secretary.

[FR Doc. 02-30378 Filed 11-27-02; 8:45 am]

BILLING CODE 6717-01-P